DEPARTMENT OF HEALTH AND HUMAN SERVICES

Health Resources and Services Administration

Ryan White HIV/AIDS Program, Part C Early Intervention Services Grant Under the Ryan White HIV/AIDS Program

AGENCY: Health Resources and Services Administration (HRSA), Department of Health and Human Services.

ACTION: Notice of Ryan White HIV/AIDS Program Part C Early Intervention Services One-Time Noncompetitive Award to Ensure Continued HIV Primary Medical Care.

SUMMARY: To prevent a lapse in comprehensive primary care services for persons living with HIV/AIDS, HRSA will provide one-time noncompetitive Ryan White HIV/AIDS Program (Part C) funds to the University of Pittsburgh Medical Center, Presbyterian Shadyside, Pittsburgh, Pennsylvania.

SUPPLEMENTARY INFORMATION: The amount of the award to ensure ongoing HIV medical services is $543,037.

Authority: Section 2651 of the Public Health Service Act, 42 U.S.C. § 300ff-51

CFDA Number: 93.918.

Project period: The period of support for this award is January 1, 2013, through June 30, 2013.

Justification for the Exception to Competition: The University of Pittsburgh School of Medicine, Pittsburgh, PA; H76HA00079 announced the December 31, 2012, relinquishment of their Part C grant in order to transfer it to another entity within their organization; the University of Pittsburgh Medical Center, Presbyterian Shadyside, a nonprofit 501(c)(3) organization. The transfer will more closely align the administrative responsibilities with the clinical entity and simplify accounting and reporting for the Part C grant. An award of $543,037 represents a proportional share of the last award to the University of Pittsburgh School of Medicine. The funding will support services to Presbyterian Shadyside until the service area is competed under HRSA-13-168 with a July 1, 2013, start date.

FOR FURTHER INFORMATION CONTACT: John Fanning; by email at jfanning@hrsa.gov or by phone at 301-443-0493.

Dated: February 6, 2013.
Mary K. Wakefield,
Administrator.

[FR Doc. 2013-03291 Filed 2-12-13; 8:45 am]

BILLING CODE 4165-15-P